DEPARTMENT OF THE INTERIOR

National Park Service

Notice of Intent to Repatriate a Cultural Item: Institute for American Indian Studies, Washington, CT

AGENCY: National Park Service, Interior.

ACTION: Notice.

Notice is here given in accordance with the Native American Graves Protection and Repatriation Act (NAGPRA), 25 U.S.C. 3005, of the intent to repatriate a cultural item in the possession of the Institute for American Indian Studies, Washington, CT, that meets the definition of “sacred object” under 25 U.S.C. 3001.

This notice is published as part of the National Park Service's administrative responsibilities under NAGPRA, 25 U.S.C. 3003 (d)(3). The determinations in this notice are the sole responsibility of the museum, institution, or Federal agency that has control of the cultural item. The National Park Service is not responsible for the determinations in this notice.

The one cultural item is an Onondaga False Face mask.

In 1993, an Onondaga False Face mask (#67.29.14) was transferred from the Mattatuck Museum, Waterbury, CT, to the Institute for American Indian Studies. The mask had been transferred to the Mattatuck Museum from the Museum of the American Indian/Heye Foundation, New York, NY, on October 20, 1967. The only information on the mask derives from the Mattatuck accession records, which note the following: “Onondago [sic] Reservation, NY, 1946.”

According to museum records and Institute for American Indian Studies professional staff and consultants, the mask is a sacred object used by Native American religious practitioners in healing and other religious ceremonies. Consultation with the Onondaga Nation of New York confirm and support that the mask is of Native American religious importance to the Onondaga people.

Officials of the Institute for American Indian Studies have determined that, pursuant to 25 U.S.C. 3001 (3)(C), the cultural item described above is a specific ceremonial object needed by traditional Native American religious leaders for the practice of traditional Native American religions by their present-day adherents. Officials of the Institute for American Indian Studies also have determined that, pursuant to 25 U.S.C. 3001 (2), there is a relationship of shared group identity that can be reasonably traced between the sacred object and the Onondaga Nation of New York.

Representatives of any other Indian tribe that believes itself to be culturally affiliated with the sacred object should contact Dr. Lucianne Lavin, Director of Research and Collections, Institute for American Indian Studies, 38 Curtis Road, Washington, CT 06793, telephone (860) 868-0518, before August 7, 2006. Repatriation of the sacred object to the Onondaga Nation of New York may proceed after that date if no additional claimants come forward.

The Institute for American Indian Studies is responsible for notifying the Onondaga Nation of New York that this notice has been published.

Dated: June 7, 2006.
Sherry Hutt,
Manager, National NAGPRA Program.

[FR Doc. E6-10509 Filed 7-5-06; 8:45 am]

BILLING CODE 4312-50-S